DEPARTMENT OF COMMERCE

Submission for OMB Review; Comment Request

The Department of Commerce will submit to the Office of Management and Budget (OMB) for clearance the following proposal for collection of information under the emergency provisions of the Paperwork Reduction Act (44 U.S.C. Chapter 35).

Agency: National Telecommunications and Information Administration (NTIA).

Title: Converter Box Coupon Program-Consumer and Retailer Pilot Test Surveys.

OMB Control Number: None.

Agency Form Number: None.

Type of Request: Emergency.

Burden Hours: 150.

Average Time per Response: 15 minutes.

Number of Respondents: 1,100.

Needs and Uses: Congress directed the National Telecommunications and Information Administration (NTIA) to create and implement a program to provide coupons for consumers to purchase digital-to-analog converter boxes (See Title III of the Deficit Reduction Act of 2005, Pub. L. No. 109-171, 120 Stat. 4, 21, February 8, 2006).

The converter boxes are necessary for consumers who wish to continue receiving broadcast programming over the air using analog-only television sets after February 18, 2009—the date that television stations are required by law to cease analog broadcasting. On March 15, 2007, NTIA published a Final Rule establishing the parameters of the Coupon Program and describing the rights and responsibilities of interested parties (See Rules to Implement and Administer a Coupon Program for Digital-to-Analog Converter Boxes, 72 FR 12097 (codified at 47 CFR 301)). Among other things, the regulations permit consumers to submit applications to NTIA for coupons beginning January 1, 2008. See 47 CFR 301.3(b).

One critical aspect of testing the coupon program, prior to full launch in all markets in early February 2008, is a “live pilot” test in which a limited number of volunteers will apply for the coupon, receive the coupon through the U.S. mail, and attempt to redeem the coupon at a local retailer for an “eligible” converter box. A material part of the pilot test is that the volunteers (consumers) will be asked to complete a survey regarding their experience in applying for and receiving the coupon and purchasing the converter box at a participating retail outlet. The retailers will be asked to complete a survey to provide feedback on such matters as their experience in redeeming the coupons, inventory issues, and employee training support. The information gathered from the surveys is intended to resolve potential problems in the system at the earliest stage possible. Only the data supplied by actual consumers and retailers through the surveys can accurately identify flaws in the process.

Affected Public: Individuals or households; business or other for-profit organizations.

Frequency: One-time only.

Respondent's Obligation: Voluntary.

OMB Desk Officer: Jasmeet K. Seehra, (202) 395-5167.

Copies of the above information collection proposal can be obtained by calling or writing Diana Hynek, Departmental Paperwork Clearance Officer, (202) 482-0266, Department of Commerce, Room 6625, 14th and Constitution Avenue, NW., Washington, DC, 20230, or via the Internet at dHynek@doc.gov.

Written comments and recommendations for the proposed information collection should be sent by January 25, 2008 to Jasmeet Seehra, OMB Desk Officer, FAX number (202) 395-5167 or via the Internet at Jasmeet_K._Seehra@omb.eop.gov.

Dated: January 9, 2008.
Gwellnar Banks,
Management Analyst, Office of the Chief Information Officer.

[FR Doc. E8-488 Filed 1-14-08; 8:45 am]

BILLING CODE 3510-60-P